DEPARTMENT OF TRANSPORTATION

Federal Aviation Administration

14 CFR Part 39

[Docket No. FAA-2021-0559; Project Identifier MCAI-2021-00079-R; Amendment 39-21727; AD 2021-19-09]

RIN 2120-AA64

Airworthiness Directives; Airbus Helicopters

AGENCY: Federal Aviation Administration (FAA), DOT.

ACTION: Final rule.

SUMMARY: The FAA is superseding Airworthiness Directive (AD) 2020-24-03, which applied to certain Airbus Helicopters Model AS350B, AS350BA, AS350B1, AS350B2, AS350D, AS355E, AS355F, AS355F1, and AS355F2 helicopters. AD 2020-24-03 required testing the UP/DOWN switches of a certain part-numbered DUNLOP cyclic stick grip, installing a placard, and revising the existing Rotorcraft Flight Manual (RFM) for your helicopter, or removing the DUNLOP cyclic stick grip. This AD retains some requirements of AD 2020-24-03 and also requires incorporating a new modification, and removing the placard and the RFM amendment installed previously as required by AD 2020-24-03. The additional actions are required as specified in a European Union Aviation Safety Agency (EASA) AD, which is incorporated by reference. This AD was prompted by the development of a modification (MOD) procedure by Airbus Helicopters for the electrical wiring of the hoist control of the DUNLOP cyclic stick. The FAA is issuing this AD to address the unsafe condition on these products.

DATES: This AD is effective November 4, 2021.

The Director of the Federal Register approved the incorporation by reference of a certain publication listed in this AD as of November 4, 2021.

ADDRESSES: For material incorporated by reference (IBR) in this AD, contact the EASA, Konrad-Adenauer-Ufer 3, 50668 Cologne, Germany; telephone +49 221 8999 000; email ADs@easa.europa.eu; internet www.easa.europa.eu. You may find this material on the EASA website at https://ad.easa.europa.eu. You may view this material at the FAA, Office of the Regional Counsel, Southwest Region, 10101 Hillwood Pkwy., Room 6N-321, Fort Worth, TX 76177. For information on the availability of this material at the FAA, call (817) 222-5110. It is also available in the AD docket at https://www.regulations.gov by searching for and locating Docket No. FAA-2021-0559.

Examining the AD Docket

You may examine the AD docket at https://www.regulations.gov by searching for and locating Docket No. FAA-2021-0559; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Daniel Poblete, Aerospace Engineer, Systems & Equipment Section, Los Angeles ACO Branch, Compliance & Airworthiness Division, 3960 Paramount Blvd., Lakewood, CA 90712; telephone (562) 627-5335; email: daniel.d.poblete@faa.gov.

SUPPLEMENTARY INFORMATION:

Background

EASA, which is the Technical Agent for the Member States of the European Union, has issued EASA AD 2021-0023, dated January 19, 2021 (EASA AD 2021-0023) to correct an unsafe condition for Airbus Helicopters Model AS 350 and AS 355 helicopters.

The FAA issued a notice of proposed rulemaking (NPRM) to amend 14 CFR part 39 to supersede AD 2020-24-03, Amendment 39-21333 (85 FR 76955, December 1, 2020) (AD 2020-24-03). AD 2020-24-03 applied to Airbus Helicopters Model AS350B, AS350BA, AS350B1, AS350B2, AS350D, AS355E, AS355F, AS355F1, and AS355F2 helicopters with DUNLOP cyclic stick grip manufacturer part number (MP/N) AC66444 with UP/DOWN switches for rescue hoist control installed. The NPRM published in the Federal Register on July 12, 2021 (86 FR 36516). The NPRM was prompted by Airbus Helicopters developing MOD MC20096 and Airbus Helicopters issuing service information for performing this modification on the DUNLOP cyclic stick. The NPRM proposed to continue to require ground testing of the UP/DOWN switches, installing a placard, and revising the existing RFM for your helicopter. The NPRM also proposed to require modifying the electrical wiring of the DUNLOP cyclic stick and removing both the placard and RFM amendment previously installed as specified in EASA AD 2021-0023.

The FAA is issuing this AD to address inadvertent activation of the rescue hoist cable cutter function and consequent detachment of an external load or person from the helicopter hoist, possibly resulting in personal injury, or injury to persons on the ground, as specified in an EASA AD. See EASA AD 2021-0023 for additional background information.

Discussion of Final Airworthiness Directive

Comments

The FAA gave the public the opportunity to participate in developing this final rule. The FAA received no comments on the NPRM or on the determination of the cost to the public.

Conclusion

The FAA reviewed the relevant data and determined that air safety and the public interest require adopting this final rule as proposed, except for minor editorial changes. As published in the NPRM, three instances of “EASA AD 2020-0023” have been changed to “EASA AD 2021-0023” in this Final rule. These minor changes correct a typographical error and the FAA has determined that they:

• Are consistent with the intent that was proposed in the NPRM for addressing the unsafe condition; and

• Do not add any additional burden upon the public than was already proposed in the NPRM.

Related Service Information Under 1 CFR Part 51

EASA AD 2021-0023 specifies procedures for installing the placard and revising the Flight Manual to prohibit the use of the UP/DOWN switches of the DUNLOP cyclic stick MP/N AC66444. EASA AD 2021-0023 also specifies procedures for modifying the electrical wiring of the DUNLOP cyclic stick and removing both the placard and RFM amendment previously installed.

This material is reasonably available because the interested parties have access to it through their normal course of business or by the means identified in the ADDRESSES section.

Differences Between This AD and the EASA AD

For helicopters with DUNLOP cyclic stick grip MP/N AC66444 with UP/DOWN switches for rescue hoist control installed, this AD requires accomplishing a ground test of the UP/DOWN switches for proper function before each hoist operation, whereas the EASA AD does not. Where EASA AD 2021-0023 refers to its effective date or the effective date of EASA Emergency AD 2020-0217-E, dated October 8, 2020, this AD requires using the effective date of this AD. Where the service information referenced in EASA AD 2021-0023 specifies “work must be performed on the helicopter by the operator,” this AD requires that the work be accomplished by a mechanic that meets the requirements of 14 CFR part 65 subpart D. Where the service information referenced in EASA AD 2021-0023 specifies to discard certain placards and Flight Manual pages (that were required by EASA AD 2020-0217-E), this AD requires removing them instead.

EASA AD 2021-0023 requires operators to “inform all flight crews” of revisions to the RFM, and thereafter to “operate the helicopter accordingly.” However, this AD does not specifically require those actions.

14 CFR 91.9 requires that no person may operate a civil aircraft without complying with the operating limitations specified in the RFM. Therefore, including a requirement in this AD to operate the helicopter according to the revised RFM would be redundant and unnecessary. Further, compliance with such a requirement in an AD would be impracticable to demonstrate or track on an ongoing basis; therefore, a requirement to operate the helicopter in such a manner would be unenforceable.

Where paragraph (4) of EASA AD 2021-0023 allows modifying a Group 2 helicopter into a Group 1 helicopter, this AD also requires accomplishing the requirements of paragraph (g)(1) of this AD. Finally, the service information referenced in EASA AD 2021-0023 requires reporting certain information, whereas this AD does not.

Costs of Compliance

The FAA estimates that this AD affects 390 helicopters of U.S. Registry. The FAA estimates that operators may incur the following costs in order to comply with this AD. Labor costs are estimated at $85 per work-hour.

Accomplishing a ground test of the UP/DOWN switches for proper function takes a minimal amount of time for a nominal cost. Replacing a DUNLOP cyclic stick grip, if required, takes about 2.5 work-hours and parts cost about $2,500 for an estimated cost of $2,713. Installing the placard and revising the existing RFM for your helicopter takes about 0.5 work-hour for an estimated cost of $43 per helicopter and $16,770 for the U.S. fleet.

Modifying the electrical wiring of the DUNLOP cyclic stick takes up to 4 work-hours and parts cost $2,147 for an estimated cost of up to $2,487 per helicopter and $969,930 for the U.S. fleet. Removing the placard and revising the existing RFM for your helicopter takes about 0.5 work-hour for an estimated cost of $43 per helicopter and $16,770 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-24-03, Amendment 39-21333 (85 FR 76955, December 1, 2020); and

b. Adding the following new AD:

2021-19-09 Airbus Helicopters: Amendment 39-21727; Docket No. FAA-2021-0559; Project Identifier MCAI-2021-00079-R.

(a) Effective Date

This airworthiness directive (AD) is effective November 4, 2021.

(b) Affected ADs

This AD replaces AD 2020-24-03, Amendment 39-21333 (85 FR 76955, December 1, 2020) (AD 2020-24-03).

(c) Applicability

This AD applies to Airbus Helicopters Model AS350B, AS350BA, AS350B1, AS350B2, AS350D, AS355E, AS355F, AS355F1, and AS355F2 helicopters, certificated in any category, as identified in European Union Aviation Safety Agency (EASA) AD 2021-0023, dated January 19, 2021 (EASA AD 2021-0023).

(d) Subject

Joint Aircraft System Component (JASC) Code 2500, Cabin Equipment/Furnishings.

(e) Unsafe Condition

This AD was prompted by the development of a modification of the electrical wiring of the hoist control on the DUNLOP cyclic stick grip. The FAA is issuing this AD to prevent inadvertent activation of the rescue hoist cable cutter and consequent detachment of an external load or person from the helicopter hoist. This condition could result in personal injury or injury to persons on the ground.

(f) Compliance

Comply with this AD within the compliance times specified, unless already done.

(g) Requirements

(1) For helicopters with DUNLOP cyclic stick grip manufacturer part number AC66444 with UP/DOWN switches for rescue hoist control installed, before each hoist operation after December 16, 2020 (the effective date of AD 2020-24-03), accomplish a ground test of the UP/DOWN switches for proper function. If there is any uncommanded hoist action, before further flight, remove the DUNLOP cyclic stick grip from service. Accomplishing the modification in paragraph (2) of EASA AD 2021-0023 constitutes terminating action for the requirements of this paragraph.

(2) Except as specified in paragraph (h) of this AD: Comply with all required actions and compliance times specified in, and in accordance with, EASA AD 2021-0023.

(h) Exceptions to EASA AD 2021-0023

(1) Where EASA AD 2021-0023 refers to October 8, 2020 (the effective date of EASA Emergency AD 2020-0217-E, datedOctober 6, 2020 (EASA AD 2020-0217-E)), this AD requires using the effective date of this AD.

(2) Where the service information referenced in paragraph (1) of EASA AD 2021-0023 specifies that the “work must be performed on the helicopter by the operator,” this AD requires that the work be accomplished by a mechanic that meets the requirements of 14 CFR part 65 subpart D.

(3) Where EASA AD 2021-0023 refers to its effective date, this AD requires using the effective date of this AD.

(4) Where EASA AD 2021-0023 refers to flight hours (FH), this AD requires using hours time-in-service.

(5) Where the service information referenced in EASA AD 2021-0023 specifies to discard certain placards and Flight Manual pages (that were required by EASA AD 2020-0217-E), this AD requires removing them.

(6) Where paragraph (3) of EASA AD 2021-0023 specifies to “inform all flight crews and, thereafter, operate the helicopter accordingly,” this AD does not require those actions.

(7) Where paragraph (4) of EASA AD 2021-0023 allows modifying a Group 2 helicopter into a Group 1 helicopter, this AD also requires accomplishing the requirements of paragraph (g)(1) of this AD.

(8) The “Remarks” section of EASA AD 2021-0023 does not apply to this AD.

(i) No Reporting Requirement

Where the service information referenced in EASA AD 2021-0023 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Daniel Poblete, Aerospace Engineer, Systems & Equipment Section, Los Angeles ACO Branch, Compliance & Airworthiness Division, 3960 Paramount Blvd., Lakewood, CA 90712; telephone (562) 627-5335; email daniel.d.poblete@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2021-0023, dated January 19, 2021.

(ii) [Reserved]

(3) For EASA AD 2021-0023, contact the EASA, Konrad-Adenauer-Ufer 3, 50668 Cologne, Germany; telephone +49 221 8999 000; email ADs@easa.europa.eu; internet www.easa.europa.eu. You may find this EASA AD on the EASA website at https://ad.easa.europa.eu.

(4) You may view this service information at the FAA, Office of the Regional Counsel, Southwest Region, 10101 Hillwood Pkwy., Room 6N-321, Fort Worth, TX 76177. For information on the availability of this material at the FAA, call 817-222-5110. This material may be found in the AD docket at https://www.regulations.gov by searching for and locating Docket No. FAA-2021-0559.

(5) You may view this material that is incorporated by reference at the National Archives and Records Administration (NARA). For information on the availability of this material at NARA, email fr.inspection@nara.gov, or go to: https://www.archives.gov/federal-register/cfr/ibr-locations.html.

Issued on September 7, 2021.
Ross Landes,
Deputy Director for Regulatory Operations, Compliance & Airworthiness Division, Aircraft Certification Service.

[FR Doc. 2021-21117 Filed 9-29-21; 8:45 am]

BILLING CODE 4910-13-P